DEPARTMENT OF HOMELAND SECURITY

Coast Guard

33 CFR Part 117

[Docket No. USCG-2013-0968]

Drawbridge Operation Regulation; Chef Menteur Pass, New Orleans, LA

AGENCY: Coast Guard, DHS.

ACTION: Notice of deviation from drawbridge regulation.

SUMMARY: The Coast Guard has issued a temporary deviation from the regulation that governs the U.S. Highway 90 bridge across Chef Menteur Pass, mile 2.8, at New Orleans, Orleans Parish, Louisiana. The deviation is necessary to affect repairs and maintenance that is required for safe operation of the bridge. This deviation allows the bridge to remain closed to navigation for 18 consecutive days, except that the bridge will open twice daily during the middle 14 days of the repair period.

DATES: This deviation is effective without actual notice from December 4, 2013 until December 21, 2013. For the purposes of enforcement, actual notice will be used from the date the deviation was signed, November 18, 2013, until December 21, 2013.

ADDRESSES: The docket for this deviation, [USCG-2013-0968] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email James Wetherington, Bridge Administration Branch, Coast Guard, telephone 504-671-2128, email james.r.wetherington@uscg.mil. If you have questions on viewing the docket, call Barbara Hairston, Program Manager, Docket Operations, telephone 202-366-9826.

SUPPLEMENTARY INFORMATION: The Louisiana Department of Transportation and Development requested a temporary deviation from the normal operation of the U.S. Highway 90 drawbridge in order to remove, repair, and replace machinery required to operate the drawbridge. This maintenance is essential for the continued safe operation of the drawbridge. This temporary deviation allows the drawbridge to remain closed from 7 a.m. on Tuesday, December 3, 2013 through 7 a.m. on Saturday, December 21, 2013. During the repair period, the bridge will be able to open for the passage of vessels twice daily, at 8 a.m. and 4 p.m., beginning on Thursday, December 5, 2013 through Wednesday, December 18, 2013.

The bridge has a vertical clearance of 10 feet above mean high water, elevation 3 feet (NGVD 29) in the closed-to-navigation position and unlimited in the open-to-navigation position.

In accordance with to 33 CFR 117.436, the draw of the U.S. Highway 90 Bridge, mile 2.8, shall open on signal; except that, from 5:30 a.m. to 7:30 a.m. Monday through Friday, except Federal holidays, the draw need open only for the passage of vessels. The draw shall open at any time for a vessel in distress.

This deviation is effective from 7 a.m. on Tuesday, December 3, 2013 through 7 a.m. on Saturday December 21, 2013. This closure allows for the maintenance and repairs to be done safely and efficiently. Navigation on the waterway consists mainly of commercial fishermen and sportsman fishermen. As a result of coordination between the Coast Guard and the waterway users, it has been determined that this closure will not have a significant effect on these vessels.

Vessels able to pass through the bridge in the closed positions may do so at anytime. The bridge will not be able to open for emergencies. Rigolets Pass can be used as an alternate route for vessels unable to pass through the bridge in closed positions. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: November 18, 2013.
David M. Frank,
Bridge Administrator.

[FR Doc. 2013-29011 Filed 12-3-13; 8:45 am]

BILLING CODE 9110-04-P